DEPARTMENT OF TRANSPORTATION

Federal Railroad Administration

[Docket No. FRA-2000-7257]

Notice No. 43; Railroad Safety Advisory Committee; Notice of Meeting

AGENCY: Federal Railroad Administration, Department of Transportation.

ACTION: Notice of the Railroad Safety Advisory Committee meeting.

SUMMARY: The Federal Railroad Administration (FRA) announces the next meeting of the Railroad Safety Advisory Committee (RSAC), a Federal Advisory Committee that develops railroad safety regulations through a consensus process. The RSAC meeting topics include opening remarks from the FRA Administrator, a presentation on the Risk Reduction Program, electronically controlled pneumatic brakes, and sight distances at highway-rail grade crossings. Status reports will be given on the locomotive safety standards, medical standards, passenger safety, railroad operating rules, and continuous welded rail-track standards working groups. The committee will be asked to vote on recommendations on passenger safety, adding and changing Title 49 Code of Federal Regulations 225 Cause Codes. This agenda is subject to change.

DATES: The meeting of the RSAC is scheduled to commence at 9:30 a.m. and conclude at 4 p.m. on Thursday, October 25, 2007.

ADDRESSES: The meeting of the RSAC will be held at the Holiday Inn Capitol, 550 C Street, SW., Washington, DC 20024. The meeting is open to the public on a first-come, first-served basis, and is accessible to individuals with disabilities. Sign and oral interpretation can be made available if requested 10 calendar days before the meeting.

FOR FURTHER INFORMATION CONTACT: Inga Toye, RSAC Coordinator, at: FRA; 1120 Vermont Avenue, NW., Mailstop 25; Washington, DC 20590, telephone (202) 493-6305; or Grady C. Cothen Jr., FRA Deputy Associate Administrator for Safety Standards and Program Development, at: FRA; 1120 Vermont Avenue, NW., Mailstop 25; Washington, DC 20590, telephone (202) 493-6302.

SUPPLEMENTARY INFORMATION: Pursuant to section 10(a)(2) of the Federal Advisory Committee Act (Pub. L. 92-463), FRA is giving notice of a meeting of the RSAC. The meeting is scheduled to begin at 9:30 a.m. and conclude at 4 p.m. on Thursday, October 25, 2007. The meeting of the RSAC will be held at the Holiday Inn Capitol, 550 C Street, SW., Washington, DC 20024.

The RSAC was established to provide advice and recommendations to FRA on railroad safety matters. The RSAC is comprised of 54 voting representatives from 31 member organizations, representing various rail industry perspectives. In addition, there are nonvoting advisory representatives from the agencies with railroad safety regulatory responsibility in Canada and Mexico, the National Transportation Safety Board, and the Federal Transit Administration. The diversity of the committee ensures the requisite range of views and expertise necessary to discharge its responsibilities.

See the RSAC Web site for details on pending tasks at: http://rsac.fra.dot.gov/. Please refer to the notice published in the Federal Register on March 11, 1996 (61 FR 9740), for more information about the RSAC.

Issued in Washington, DC on October 2, 2007.
Grady C. Cothen, Jr.,
Deputy Associate Administrator for Safety Standards and Program Development.

[FR Doc. E7-19741 Filed 10-5-07; 8:45 am]

BILLING CODE 4910-06-P